DEPARTMENT OF COMMERCE

National Oceanic and Atmospheric Administration

Proposed Information Collection; Comment Request; Northeast Region Observer Providers Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 5, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Peter Christopher, 978-281-9288 or peter.christopher@noaa.gov.

SUPPLEMENTARY INFORMATION:

I. Abstract

National Marine Fisheries Service (NMFS) Northeast Region manages the Atlantic sea scallop (scallop) fishery of the Exclusive Economic Zone (EEZ) off the East Coast under the Atlantic Sea Scallop Fishery Management Plan (Scallop FMP). The regulations implementing the Scallop FMPs are at 50 CFR part 648. On June 16, 2006, NMFS implemented an emergency action that re-activated the industry-funded observer program in the Scallop FMP, wherein scallop vessels are required to procure observer coverage from an approved observer service provider. The observer service providers are required to submit an application to NMFS for approval, and once approved, are required to submit various information to support the observer program. Scallop vessel owners or operators are required to contact approved observer service providers in order to procure an observer for trips on which an observer is required. NMFS requests information from candidate scallop fishery observer service providers to evaluate applications for approval. NMFS also requests information from approved scallop fishery observer service providers to monitor activity for compliance with observer service provider requirements and to evaluate observer data; and information from participating scallop fishery participants to assign observers to selected vessels.

II. Method of Collection

Paper applications and telephone calls are required from participants. Facsimile transmission of paper forms, mail, and express mail are the methods of information submittal.

III. Data

OMB Number: 0648-0546.

Form Number: None.

Type of Review: Regular submission.

Affected Public: Not-for-profit institutions, and business or other for-profits organizations.

Estimated Number of Respondents: 805.

Estimated Time per Response: Application for approval of observer service provider, 10 hours; applicant response to denial of application for approval of observer service provider, 10 hours; observer service provider request for observer training, 30 minutes; observer deployment report, 10 minutes; observer availability report, 10 minutes; safety refusal report, 30 minutes; submission of raw observer data, 5 minutes; observer debriefing, 2 hours; biological samples, 5 minutes; rebuttal of pending removal from list of approved observer service providers, 8 hours; vessel request to observer service provider for procurement of a certified observer, 25 minutes; vessel request for waiver of observer coverage requirement, 5 minutes.

Estimated Total Annual Burden Hours: 611.

Estimated Total Annual Cost to Public: $6,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2006.
Gwellnar Banks,
Management Analyst, Office of the Chief Information Officer.

[FR Doc. E6-10501 Filed 7-5-06; 8:45 am]

BILLING CODE 3510-22-P